DEPARTMENT OF THE TREASURY

Treasury Inspector General for Tax Administration Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Treasury Inspector General for Tax Administration within the Department of the Treasury is soliciting comments concerning the Taxpayer Delinquent Account (TDA) Confirmation Letter.

DATES: Written comments should be received on or before June 13, 2006 to be assured of consideration.

ADDRESSES: Direct all written comments to Joseph Ananka, Treasury Inspector General for Tax Administration, Office of Audit, 1125 15th Street, NW., Suite 700A, Washington, DC 20005, or e-mail Joseph.Ananka@tigta.treas.gov.

FOR FURTHER INFORMATION CONTACT: Requests for additional information or copies of the letter should be directed to Joseph Ananka (202-622-5964), Treasury Inspector General for Tax Administration, Office of Audit, 1125 15th Street, NW., Suite 700A, Washington, DC 20005, or e-mail at Joseph.Ananka@tigta.treas.gov.

SUPPLEMENTARY INFORMATION: Title: Taxpayer Delinquent Account (TDA) Confirmation Letter.

OMB Number: 1591-NEW.

Abstract: The Treasury Inspector General for Tax Administration (TIGTA), Office of Audit is performing a confirmation program of balance due accounts owed the Internal Revenue Service (IRS) to see if the taxpayer agrees with with balance due owed. TIGTA will use the information collected to determine the accuracy of IRS records.

Type of Review: New collection.

Affected Public: Individuals or households.

Estimated Number of Respondents: 100.

Estimated Total Annual Burden Hours: 24.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: April 10, 2006.
Preston B. Benoit,
Director, Office of Management and Policy, Treasury Inspector General for Tax Administration, Office of Audit.

[FR Doc. E6-5865 Filed 4-18-06; 8:45 am]

BILLING CODE 4830-01-P